NATIONAL SCIENCE FOUNDATION

Advisory Committee for Engineering; Notice of Meeting

In accordance with the Federal Advisory Committee Act (Pub. L. 92-463, as amended), the National Science Foundation announces the following meeting.

Name: Advisory Committee for Engineering (1170).

Date & Time: March 12th, 13th, and 14th, 2001 8 a.m.-5 p.m.

Place: National Science Foundation, 4201 Wilson Blvd, Arlington, VA.

Type of Meeting: Part-Open (see Agenda below).

Contact Person: Dr. William S. Butcher, National Science Foundation, Room 585N, 4201 Wilson Blvd., Arlington, VA 22230. Telephone: (703) 292-5344.

Purpose of Meeting: To carry out Committee of Visitors (COV) review for the Division of Engineering Education and Centers and GPRA assessments.

Agenda

Closed: March 12th 8 a.m.-5 p.m. Review the merit review processes covering funding decisions made during the immediately preceding three fiscal years.

Open: March 13th and 14th 8 a.m.-5 p.m. Assess the results of NSF program investments; including a discussion and review of the results focused on NSF and grantee outputs and related outcomes achieved or realized during the preceding three fiscal years.

Reason for Closing: During the closed session, the Committee will be reviewing proposal actions that will include privileged intellectual property and personal information that could harm individuals if they are disclosed. These matters are exempt under 5 U.S.C. 552b(c), (4) and (6) of the Government in the Sunshine Act would be improperly disclosed.

Dated: February 14, 2001.
Susanne Bolton,
Committee Management Officer.

[FR Doc. 01-4162 Filed 2-20-01; 8:45 am]

BILLING CODE 7555-01-M